DEPARTMENT OF AGRICULTURE

Forest Service

Sierra County, CA, Resource Advisory Committee

AGENCY: Forest Service, USDA.

ACTION: Notice of meeting.

SUMMARY: The Sierra County Resource Advisory Committee (RAC) will meet on June 17, 2002, in Downieville, California. The purpose of the meeting is to discuss issues relating to implementing the Secure Rural Schools and Community Self-Determination Act of 2000 (Payments to States) and the expenditure of Title II funds benefiting National Forest System lands on the Humboldt-Toiyabe, Plumas and Tahoe National Forests in Sierra County.

DATES: The meeting will be held June 17, 2002 from 1:30 p.m. to 4:30 p.m.

ADDRESSES: The meeting will be held at the Downieville Community Hall, Downieville, CA.

FOR FURTHER INFORMATION CONTACT: Ann Westling, Committee Coordinator, USDA, Tahoe National Forest, 631 Coyote St, Nevada City, CA, 95959, (530) 478-6205, EMAIL: awestling@fs.fed.us

SUPPLEMENTARY INFORMATION: Agenda items to be covered include: (1) Welcome and announcements; (2) National Forest Fuels Reduction Priorities; and (3) Review of RAC project criteria and the process for project submittal and public notification. The meeting is open to the public and the public will have an opportunity to comment at the meeting.

Dated: May 23, 2002.
Steven T. Eubanks,
Forest Supervisor.

[FR Doc. 02-13606 Filed 5-29-02; 8:45 am]

BILLING CODE 3410-11-M